ENVIRONMENTAL PROTECTION AGENCY

[EPA-HQ-OW-2022-0365 and EPA-HQ-OW-2022-0366; FRL-12358-01-OW]

Final Recommended Aquatic Life Criteria and Benchmarks for Select PFAS; Correction

AGENCY: Environmental Protection Agency (EPA).

ACTION: Notice of availability; correction.

SUMMARY: The Environmental Protection Agency (EPA) is making a correction to a notice that appeared in the Federal Register on October 7, 2024. The notice of availability contained an incorrect table column heading in Table 2 which is corrected below.

FOR FURTHER INFORMATION CONTACT: Kathryn Gallagher, Health and Ecological Criteria Division, Office of Water, Environmental Protection Agency; telephone number: (202) 320 7446; email address: gallagher.kathryn@epa.gov.

SUPPLEMENTARY INFORMATION: EPA published a notice of availability in the Federal Register at 89 FR 81077, October 7, 2024. This document corrects an error in Table 2, third column, table heading by correcting “PFOA” to “PFOS”. This notice for correction corrects the error.

Correction

In the Federal Register issue of October 7, 2024, in FR Doc. 2024-23024 on page 81079, correct “Table 2” to read:

Table 2—Acute Saltwater Aquatic Life Benchmarks for PFOA and PFOS
Chemical | PFOA | PFOS
Magnitude | 7.0 mg/L | 0.55 mg/L.
Duration | One hour average.
Frequency | Not to be exceeded more than once in three years on average.

Deborah Nagle,
Director, Office of Science and Technology, Office of Water.

[FR Doc. 2024-26228 Filed 11-12-24; 8:45 am]

BILLING CODE 6560-50-P